DEPARTMENT OF COMMERCE

National Oceanic and Atmospheric Administration

50 CFR Part 660

[Docket No. 000501119-01; I.D. 102300B]

Fisheries Off West Coast States and in the Western Pacific; West Coast Salmon Fisheries; Closures and Inseason Adjustments from the U.S.-Canada Border to the Oregon-California Border

AGENCY: National Marine Fisheries Service (NMFS), National Oceanic and Atmospheric Administration (NOAA), Commerce.

ACTION: Closures and inseason adjustments; request for comments.

SUMMARY: NMFS announces closures of several recreational and commercial fisheries from the Oregon-California border to the U.S.-Canada border. The Northwest Regional Administrator, NMFS (Regional Administrator), determined that the recreational and commercial quotas of salmon for these areas had been reached. These actions were necessary to conform to the 2000 management measures and are intended to ensure conservation of coho and chinook salmon.

DATES: Closures effective: 2359 hours local time (l.t.), August 17, 2000, for the area from U.S.-Canada Border to Cape Alava; 2359 hours l.t., August 12, 2000, for the area from Cape Alava to Queets River, WA; 2359 hours l.t., August 10, 2000, for the area from Queets River to Leadbetter Point, WA; 2359 hours l.t., August 13, 2000, for the area from Leadbetter Point, WA, to Cape Falcon, OR; and 2359 hours l.t., August 11, 2000, for the area from Sisters Rocks, OR, to the Oregon-California border. See SUPPLEMENTARY INFORMATION for specific closure areas and times. Comments will be accepted through December 11, 2000.

ADDRESSES: Comments on these actions must be mailed to Donna Darm, Acting Regional Administrator, Northwest Region, NMFS, NOAA, 7600 Sand Point Way N.E., Bldg. 1, Seattle, WA 98115-0070; or faxed to 206-526-6376; or Rebecca Lent, Regional Administrator, Southwest Region, NMFS, NOAA, 501 W. Ocean Blvd., Suite 4200, Long Beach, CA 90802-4132; or faxed to 562-980-4018. Comments will not be accepted if submitted via e-mail or the Internet. Information relevant to this document is available for public review during business hours at the Office of the Regional Administrator, Northwest Region, NMFS.

FOR FURTHER INFORMATION CONTACT: William Robinson, 206-526-6140, Northwest Region, NMFS; or Svein Fougner, 562-980-4030 Southwest Region, NMFS.

SUPPLEMENTARY INFORMATION: Regulations governing the ocean salmon fisheries at 50 CFR 660.409(a)(1) state that, when a quota for any salmon species in any portion of the fishery management area is projected by the Regional Administrator to be reached on or by a certain date, NMFS will, by notification issued under 50 CFR 660.411(a)(2), close the fishery for all salmon species in the portion of the fishery management area to which the quota applies, as of the date the quota is projected to be reached.

In the 2000 management measures for ocean salmon fisheries (65 FR 26138, May 5, 2000), NMFS announced the following recreational fisheries north of Cape Falcon, Oregon: U.S.-Canada Border to Cape Alava (Neah Bay Area) opened July 3 through earlier of September 30 or subarea quota of 6,900 marked coho, with a guideline of 500 chinook; Cape Alava to Queets River (La Push Area) opened July 3 through earlier of September 30 or subarea quota of 1,700 marked coho, with a guideline of 300 chinook; Queets River to Leadbetter Pt. (Westport Area) opened July 3 through earlier of September 30 or subarea quota of 28,900 marked coho, with a guideline of 7,400 chinook, and closed through August 10 inside the area (“Grays Harbor bubble area”) defined by a line drawn from the Westport lighthouse (46°53.3' N. lat., 124°07.01' W. long.) to Buoy #2 (46°52.7' N. lat., 124°12.7' W. long.) to Buoy #3 (46°55.0' N. lat., 124°14.8' W. long.) to the Grays Harbor north jetty (46°55.6' N. lat., 124°10.85' W. long.); Leadbetter Pt. to Cape Falcon (Columbia River Area) opened July 10 through earlier of September 30 or subarea quota of 37,500 marked coho, with a guideline of 4,300 chinook. NMFS also announced the commercial fishery off the southern Oregon coast from Sisters Rocks to Oregon-California Border opened August 1 through earlier of August 31 or 1,300 chinook quota.

The Regional Administrator consulted with representatives of the Pacific Fishery Management Council, the Washington Department of Fish and Wildlife and the Oregon Department of Fish and Wildlife on August 4, 7, 9, and 16, 2000.

The Northwest Regional Administrator, NMFS (Regional Administrator), determined that the best available information on August 9, 2000, indicated that the catch and effort data and projections supported closure of 3 of the 4 recreational fisheries and the one commercial fishery. To meet preseason management objectives such as quotas and season duration, 4,000 coho from the commercial fishery from Queets River, WA, to Cape Falcon, OR were traded for 1,000 chinook from the overall recreational allocation north of Cape Falcon; and 250 coho from the U.S.-Canada Border to Cape Alava sub-area recreational quota were transferred to the Cape Alava to Queets River, WA area. Of the 4,000 coho that were traded, 3,400 coho were added to the Columbia River Area quota and 600 coho to the Westport Area quota. The troll fishery received 1,000 chinook from the recreational fisheries in the Columbia River and Westport areas, reflected in the revised Columbia River Area chinook guideline.

The recreational fishery in the area from Cape Alava to Queets River, WA closed at 2359 hours l.t., August 12, 2000, with an estimated catch of 182 chinook on a guideline of 300 and 1,932 coho on a revised quota of 1,950; the recreational fishery in the area from Queets River to Leadbetter Point, WA, closed at 2359 hours l.t., August 10, 2000, with an estimated catch of 6,349 chinook on a guideline of 7,400 and 28,841 coho on a revised quota of 29,500 (Except the Grays Harbor bubble area was open for 1 day, August 13, 2000); and the recreational fishery in the area from Leadbetter Point, WA, to Cape Falcon, OR, closed at 2359 hours l.t., August 13, 2000, with an estimated catch of 2,315 chinook on a revised guideline of 3,300 and 39,668 coho on a revised quota of 40,900. The commercial fishery in the area from Sisters Rocks, OR, to the Oregon-California border closed at 2359 hours l.t., August 11, 2000, with an estimated catch of 930 chinook on a quota of 1,300.

The best available information on August 16, 2000, supported closure of the recreational fishery in the area from U.S.-Canada Border to Cape Alava which was closed at 2359 hours l.t., August 17, 2000, with an estimated catch of 467 chinook on a guideline of 500 and 7,265 coho on a revised quota of 6,650.

The States of Washington and Oregon will manage coho and chinook fisheries in state waters adjacent to these areas of the exclusive economic zone in accordance with this Federal action. As provided by the inseason notice procedures of 50 CFR 660.411, actual notices to fishermen of these actions were given by telephone hotline number 206-526-6667 and 800-662-9825, and by U.S. Coast Guard Notice to Mariners broadcasts on Channel 16 VHF-FM and 2182 kHz prior to these inseason adjustments.

Classification

Because of the need for immediate action to stop a fishery upon achievement of a quota, NMFS has determined that good cause exists for this notification to be issued without affording a prior opportunity for public comment because such notification would be unnecessary, impracticable, and contrary to the public interest. Moreover, because of the immediate need to stop the fishery upon achievement of a quota, the Assistant Administrator for Fisheries, NOAA finds, for good cause, under 5 U.S.C. 553(d)(3), that delaying the effectiveness of this rule for 30 days is impracticable and contrary to public interest. These actions do not apply to other fisheries that may be operating in other areas.

This action is authorized by 50 CFR 660.409 and 660.411 and is exempt from review under Executive Order 12866.

Authority: 16 U.S.C. 1801 et seq.

Dated: November 17, 2000.
Bruce C. Morehead,
Acting Director, Office of Sustainable Fisheries, National Marine Fisheries Service.

[FR Doc. 00-30026 Filed 11-22-00; 8:45 am]

BILLING CODE: 3510-22-S